DEPARTMENT OF THE INTERIOR

National Park Service

Final Environmental Impact Statement/Fire Management Plan; Golden Gate National Recreation Area; Marin, San Francisco and San Mateo Counties, CA; Notice of Approval of Record of Decision

SUMMARY: Pursuant to section 102(2)(C) of the National Environmental Policy Act of 1969 (Pub. L. 91-190, as amended) and the implementing regulations promulgated by the Council on Environmental Quality (40 CFR part 1505.2), the Department of the Interior, National Park Service has prepared, and the Regional Director, Pacific West Region has approved the Record of Decision for the updated Fire Management Plan for Golden Gate National Recreation Area. The formal no-action waiting period was officially initiated December 23, 2005, with the U.S. Environmental Protection Agency's Federal Register notification of the filing of the Final Environmental Impact Statement (EIS).

Decision: As soon as practicable the park will begin to implement as its updated Fire Management Plan the “Hazard Reduction and Resource Enhancement through Multiple Treatments” alternative (also identified and analyzed as the Preferred Alternative C in the Draft and Final EIS). The selected plan update allows for the greatest number of acres to be treated annually while minimizing potential adverse resource effects of fire management activities. Alternative C utilizes prescribed burning and mechanical treatment strategies deemed to be appropriate for reducing fuel loads near developed areas. Expanded research will examine the role of these strategies in enhancing natural resource conditions, and will also be used to adaptively guide the fire management program and maximize the benefits to park cultural and natural resources. As documented in the EIS, this plan was also deemed to be the “environmentally preferred” alternative.

This course of action and two alternatives were initially identified and analyzed in the Draft EIS (distributed in March 2005); minor modifications were made based on public and agency review. The Final EIS was released in December 2005. The full spectrum of foreseeable environmental consequences was assessed, and appropriate mitigation measures identified. Beginning with early scoping, through the preparation of the Draft and Final EIS, numerous public meetings and agency consultations were conducted, and newsletter updates were regularly provided. Approximately one dozen written responses to the Draft EIS were received and duly considered. Key consultations which aided in preparing the Draft and Final EIS involved (but were not limited to) the California State Historic Preservation Office, California Coastal Commission, local air quality management districts, adjoining land managing agencies, U.S. Fish and Wildlife Service, and National Marine Fisheries Service. Area residents, county and city officials, and interested organizations were contacted extensively during initial scoping and throughout the fire planning process.

Copies: Interested parties desiring to review the Record of Decision may obtain a complete copy by contacting the Superintendent, Golden Gate National Recreation Area, Bldg. 201, Ft. Mason, San Francisco, CA 94123 or via telephone request at (415) 331-6374.

Dated: February 24, 2006.
Jonathan B. Jarvis,
Regional Director, Pacific West Region.

[FR Doc. E6-4545 Filed 3-28-06; 8:45 am]

BILLING CODE 4312-FN-P